DEPARTMENT OF TRANSPORTATION

Federal Aviation Administration

Approval of Noise Compatibility Program; Cincinnati/Northern Kentucky International Airport Hebron, KY

AGENCY: Federal Aviation Administration, DOT.

ACTION: Notice.

SUMMARY: The Federal Aviation Administration (FAA) announces its findings on the noise compatibility program update submitted by Kenton County Airport Board (KCAB) under the provisions of Title I of the Aviation Safety and Noise Abatement Act of 1979 (Pub. L. 96-193) and 14 CFR Part 150. These findings are made in recognition of the description of Federal and nonfederal responsibilities in Senate Report No. 96-52 (1980). On June 8, 2000, the FAA determined that the noise exposure maps submitted by Kenton County Airport Board under Part 150 were in compliance with applicable requirements. On December 5, 2000, the Administrator approved the Cincinnati/Northern Kentucky International Noise Compatibility Program Update. Twenty-two measures were approved; four measures were approved in part or with clarification; and one measure did not require approval at this time. One measure was withdrawn by KCAB November 22, 2000 pending further evaluation. In addition, twelve measures included in the program did not require FAA action.

EFFECTIVE DATE: The effective date of the FAA's approval of the Cincinnati/Northern Kentucky International Airport Noise Compatibility Program Update is December 5, 2000.

FOR FURTHER INFORMATION CONTACT: Peggy S. Kelley, 3385 Airways Blvd., Suite 302, Memphis, Tennessee 38116-3841, telephone 901-544-3495 extension 19. Documents reflecting this FAA action may be reviewed at this same location.

SUPPLEMENTARY INFORMATION: This notice announces that the FAA has given its overall approval to the noise, compatibility program for Cincinnati/Northern Kentucky International Airport, effective December 5, 2000.

Under section 104(a) of the Aviation Safety and Noise Abatement Act of 1979 (hereinafter referred to as “the Act”), an airport operator who has previously submitted a noise exposure map may submit to the FAA a noise compatibility program which sets forth the measures taken or proposed by the airport operator for the reduction of existing noncompatible land used within the area covered by the noise exposure maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing noncompatible land uses around the airport and preventing the introduction of additional noncompatible land uses;

c. Program measures would not create an undue burden on interstate or foreign commerce, unjustly discriminate against types of classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, § 150.5. Approval is not a determination concerning the acceptability of land uses under Federal, state or local law. Approval does not by itself constitute a FAA implementing action. A request for Federal action or approval to implement specific noise compatibility measures may be required, and a FAA decision on the request may require an environmental assessment of the proposed action. Approval does not constitute a commitment by the FAA to financially assist in the implementation of the program nor a determination that all measures covered by the program are eligible for grant-in aid funding from the FAA. Where federal funding is sought, requests for project grants must be submitted to the FAA Airports District Office in Memphis, Tennessee.

The Kenton County Airport Board submitted to the FAA on May 2, 2000, the noise exposure maps, descriptions, and other documentation produced during the FAR Part 150 Noise Compatibility Study Update, initiated August 1998. The Cincinnati/Northern Kentucky International Airport noise exposure maps were determined by FAA to be in compliance with applicable requirements on June 8, 2000. Notice of this determination was published in the Federal Register on June 16, 2000.

The Cincinnati/Northern Kentucky International Airport Noise Compatibility Program Update contains a proposed noise compatibility program comprised of actions designed for phased implementation by airport management and adjacent jurisdictions from the date of study completion beyond the year 2005. It was requested that the FAA evaluate and approve this material as a noise compatibility program as described in section 104(b) of the Act. The FAA began its review of the program on June 8, 2000, and was required by provision of the Act to approve or disapprove the program within 180 days (other than the use of new flight procedures for noise control). Failure to approve or disapprove such program within the 180-day period shall be deemed an approval of such a program.

The submitted program contained sixteen (16) operational measures, eighteen (18) land use measures and six (6) implementation measures. The FAA completed its review and determined that the procedural and substantive requirements of the Act and FAR Part 150 have been satisfied. The overall program, therefore, was approved by the Administrator effective December 5, 2000.

Approval for Part 150 was granted, in total or in part, for ten (10) of the proposed operational (noise abatement) measures; one measure was withdrawn for additional study; four measures did not require approval, and one measure was deferred until the environmental analysis and FAA decision concerning the associated runway development proposal is completed and FAA has evaluated the measure for safety and efficiency. Approval was granted, in total or in part, for sixteen (16) of the land use and implementation actions. Eight (8) of the land use and implementation actions did not require approval. Land use mitigation measures include voluntary acquisition, purchase assurance, and sound insulation of residences, sound insulation for eligible schools and churches, purchase of undeveloped approved residential lots, and support of Boone County Planning Commission's Comprehensive Plan compatible land use policies.

These determinations are set forth in detail in a Record of Approval endorsed by the Administrator on December 5, 2000. The Record of Approval, as well as other evaluation materials and the documents comprising the submittal, are available for review at the FAA office listed above and at the administrative offices of the Cincinnati/Northern Kentucky International Airport, Second Floor, Terminal One, Hebron, Kentucky.

Dated: Issued in Memphis Airports District Office, Memphis, Tennessee, December 15, 2000.
LaVerne F. Reid,
Manager, Memphis Airports District Office.

[FR Doc. 01-711 Filed 1-9-01; 8:45 am]

BILLING CODE 4910-13-M